FEDERAL COMMUNICATIONS COMMISSION

Sunshine Act Meeting; Deletion of Items from Meeting

November 16, 2016.

The following Agenda items have been deleted from the list of items scheduled for consideration at the Thursday, November 17, 2016, Open Meeting and previously listed in the Commission's Notice of November 10, 2016. The items remain on circulation.

* * * * *

1 | Wireless Telecommunications | Title: Universal Service Reform—Mobility Fund (WT Docket No. 10-208); Connect America Fund (WC Docket No. 10-90); A National Broadband Plan for Out Future (GN Docket No. 09-51); Establishing Just and Reasonable Rates for Local Exchange Carriers (WC Docket No. 07-135); High-Cost Universal Service Support (WC Docket No. 05-337); Developing an Unified Intercarrier Compensation Regime (CC Docket No. 01-92); Federal-State Joint Board on Universal Service (CC Docket No. 96-45); Lifeline and Link-Up (WC Docket No. 03-109)
|  | Summary: The Commission will consider a Report and Order that would adopt rules for the second phase of the Mobility Fund, which would provide ongoing universal service support dedicated to expanding the availability of mobile broadband networks.
2 | Wireless Telecommunications | Title: Roaming Obligations of Commercial Mobile Service Providers and Regulatory Classification of Voice over LTE Service (WT Docket No. 16-356)
|  | Summary: The Commission will consider a Notice of Proposed Rulemaking that would seek comment on proposals to implement a unified roaming standard and to classify Voice over LTE.
3 | Wireline Competition | Title: Business Data Services in an Internet Protocol Environment (WC Docket No. 16-143); Investigation of Certain Price Cap Local Exchange Carrier Business Data Services Tariff Pricing Plans (WC Docket No. 15-247); Technology Transitions (GN Docket No. 13-5); Special Access for Price Cap Local Exchange Carriers (WC Docket No. 05-25); AT&T Corporation Petition for Rulemaking to Reform Regulation of Incumbent Local Exchange Carrier Rates for Interstate Special Access Services (RM-10593)
|  | Summary:The Commission will consider a Report and Order and Second Further Notice of Proposed Rulemaking that would allow for light-touch regulation of packet-based Business Data Services and retain and update price cap regulation for lower-bandwidth TDM-based Business Data Services to ensure that lack of competition does not unfairly harm commercial customers or the consumers who rely upon these services.
4 | Media | Title: Video Description: Implementation of the Twenty-First Century Communications and Video Accessibility Act of 2010 (MB Docket No. 11-43)
|  | Summary:The Commission will consider a Report and Order which addresses the amount of video described programming required to be made available to consumers.

The following Consent Agenda item has been deleted from the list of items scheduled for consideration at the Thursday, November 17, 2016, Open Meeting and previously listed in the Commission's Notice of November 10, 2016. The item remains on circulation.

* * * * *

Consent Agenda
1 | Enforcement | Title: Enforcement Bureau Action.
|  | Summary:The Commission will consider an enforcement action.

Federal Communications Commission.
Marlene H. Dortch,
Secretary.

[FR Doc. 2016-28115 Filed 11-17-16; 4:15 pm]

BILLING CODE 6712-01-P